DEPARTMENT OF COMMERCE

National Oceanic and Atmospheric Administration

RIN 0648-XA095

Gulf of Mexico Fishery Management Council; Public Meeting

AGENCY: National Marine Fisheries Service (NMFS), National Oceanic and Atmospheric Administration (NOAA), Commerce

ACTION: Notice of a public meeting.

SUMMARY: The Gulf of Mexico Fishery Management Council will convene a public meeting of the Shrimp Advisory Panel.

DATES: The Shrimp Advisory Panel meeting is scheduled to begin at 8:30 a.m. on Wednesday, January 12, 2011, and end by 2 p.m.

ADDRESSES: The meeting will be held at the Crowne Plaza, 2829 Williams Blvd., Kenner, LA 70062.

Council address: Gulf of Mexico Fishery Management Council, 2203 North Lois Avenue, Suite 1100, Tampa, FL 33607.

FOR FURTHER INFORMATION CONTACT: Dr. Richard Leard, Deputy Executive Director; telephone: (813) 348-1630.

SUPPLEMENTARY INFORMATION: The Shrimp Advisory Panel will receive a presentation of the Biological Review of the 2010 Texas Closure and a change in yield report. The Shrimp Advisory Panel will then consider recommendations for a 2011 closure. The Shrimp Advisory Panel will also receive presentations of the Status and Health of Shrimp Stocks in 2009 and a Stock Assessment Report for 2009. Finally, the Shrimp Advisory Panel will review preliminary effort estimates for 2010 and possibly make recommendations for the Council.

Although other non-emergency issues not on the agenda may come before the Shrimp Advisory Panel for discussion, in accordance with the Magnuson-Stevens Fishery Conservation and Management Act (Magnuson-Stevens Act), those issues may not be the subject of formal action during this meeting. Actions of the Shrimp Advisory Panel will be restricted to those issues specifically identified in the agenda and any issues arising after publication of this notice that require emergency action under Section 305(c) of the Magnuson-Stevens Act, provided the public has been notified of the Council's intent to take action to address the emergency.

Copies of the agenda can be obtained by calling (813) 348-1630.

Special Accommodations

This meeting is physically accessible to people with disabilities. Requests for sign language interpretation or other auxiliary aids should be directed to Trish Kennedy at the Council (see ADDRESSES) at least 5 working days prior to the meeting.

Dated: December 15, 2010.
Tracey L. Thompson,
Acting Director, Office of Sustainable Fisheries, National Marine Fisheries Service.

[FR Doc. 2010-31869 Filed 12-17-10; 8:45 am]

BILLING CODE 3510-22-P